DEPARTMENT OF LABOR

Employment and Training Administration

[TA-W-50,528]

Celestica Corporation Midwest Campus Including Leased Workers of Adecco Staffing Services, Rochester, Minnesota; Amended Certification Regarding Eligibility To Apply for Worker Adjustment Assistance

In accordance with section 223 of the Trade Act of 1974 (19 U.S.C. 2273) the Department of Labor issued a Certification of Eligibility to Apply for Worker Adjustment Assistance on January 29, 2003, applicable to workers of Celestica Corporation, Midwest Campus, Rochester, Minnesota. The notice was published in the Federal Register on February 24, 2003 (68 FR 8620).

At the request of the petitioners, the Department reviewed the certification for workers of the subject firm. Information provided by the company shows that leased workers of Adecco Staffing Services were employed at the Midwest Campus of Celestica Corporation to produce electronic cards at the Rochester, Minnesota location of the subject firm.

Based on these findings, the Department is amending this certification to include leased workers of Adecco Staffing Services working at Celestica Corporation, Midwest Campus, Rochester, Minnesota.

The intent of the Department's certification is to include all workers of Celestica Corporation, Midwest Campus who were adversely affected by the shift in production to Canada.

The amended notice applicable to TA-W-50,528 is hereby issued as follows:

All workers of Celestica Corporation, Midwest Campus, Rochester, Minnesota, and leased workers of Adecco Staffing Services, Rochester, Minnesota producing electronic cards at Celestica Corporation, Midwest Campus, Rochester, Minnesota, who became totally or partially separated from employment on or after January 7, 2002, through January 29, 2005, are eligible to apply for adjustment assistance under section 223 of the Trade Act of 1974.

Signed in Washington, DC this 8th day of April, 2003.
Linda G. Poole,
Certifying Officer, Division of Trade Adjustment Assistance.

[FR Doc. 03-9150 Filed 4-14-03; 8:45 am]

BILLING CODE 4510-30-P